DEPARTMENT OF LABOR

Occupational Safety and Health Administration

29 CFR Parts 1910, 1915, and 1926

[Docket No. OSHA-H022K-2006-0062 (formerly Docket No. H022K)]

RIN 1218-AC20

Hazard Communication; Corrections and Technical Amendment

AGENCY: Occupational Safety and Health Administration (OSHA), DOL.

ACTION: Final rule: correction and technical amendment.

SUMMARY: OSHA is correcting its regulations that were amended by the Hazard Communication Standard final rule, published in the Federal Register on March 26, 2012. The majority of the corrections are to references inadvertently missed in the original publication of the final rule. Other corrections include correcting values or notations in tables, and updating references to terms.

DATES: Effective: February 8, 2013.

FOR FURTHER INFORMATION CONTACT:

Press inquiries: Frank Meilinger, Director, Office of Communications, OSHA, Room N-3647, U.S. Department of Labor, 200 Constitution Avenue NW., Washington, DC 20210; telephone (202) 693-1999.

General and technical information: Dorothy Dougherty, Director, Directorate of Standards and Guidance, OSHA, Room N-3718, U.S. Department of Labor, 200 Constitution Avenue NW., Washington, DC 20210; telephone (202) 693-1950.

SUPPLEMENTARY INFORMATION:

I. Background

This notice corrects certain minor errors in the revisions to OSHA's Hazard Communication Standard, published at 77 FR 17574. The majority of these corrections change references in other OSHA standards made to “material safety data sheet” or “MSDS” to “safety data sheet” or “SDS,” which OSHA inadvertently missed in its original publication of the final rule. Other corrections include correcting values or notations in tables, and updating references to terms defined in the Hazard Communication Standard Final Rule, published on March 26, 2012.

Correction of Publication

The following corrections are made to the preamble to the final rule for the Hazard Communication Standard, published in the Federal Register on March 26, 2012 (77 FR 17574).

1. In the Preamble, on p. 17686, in the third column, the seventh paragraph Estimated Total Burden Hours: 11.3 million hours is revised to read Estimated Total Burden Hours: 10,689,248 hours.

2. In the Preamble, on p. 17755, in the third column, in the first paragraph the name “David Levine” is corrected to read “Daniel Levine”.

3. In the Preamble, on p. 17712, Table XIII-1, the “>20%” value for Specific target organ toxicity Category 3 is corrected to read “≥20%” (both columns).

4. In the Preamble, on p. 17751, Table XIII-5, Health Effects Column for Standard No. 1910.1051. “Cancer; eye and respiratory tract irritation; center nervous system effects; and flammability” is corrected to read “Cancer; eye and respiratory tract irritation; central nervous system effects; and flammability.”

The following table contains a summary of the codified changes made to the Hazard Communication final rule as it appeared at 77 FR 17574 and is provided for the regulated community. The changes are listed by the Federal Register page number on which they can be found, the standard being corrected, and a summary of the correction being made.

Page No. | Standard | Correction
Page 17776, third column | § 1910.119, paragraph (d)(1) and Appendix C | “material safety data sheet” and the acronym “MSDS” are corrected to “safety data sheet” and “SDS”, respectively.
On p. 17776, third column | § 1910.120, paragraph (g), Appendices A and E | “material safety data sheet” and the acronym “MSDS” are corrected to “safety data sheet” and “SDS”, respectively.
On p. 17778, first column | § 1910.1001, Appendix J | “material safety data sheet” and the acronym “MSDS” are corrected to “safety data sheet” and “SDS”, respectively.
On p. 17782, third column | § 1910.1044, Appendix B | Reference to “Class IIIA combustible liquid” is corrected to “Category 4 flammable liquid”.
On p. 17784, first column | § 1910.1048, Appendix A | The flammability class reference in Appendix A is updated to align with the § 1910.1200.
On p. 17785, second column, second paragraph | § 1910.1051 (l)(1)(ii) | “center nervous system effects” is corrected to “central nervous system effects”.
On p. 17785, second column | § 1910.1052, Appendix A | The example label language in Appendix A is removed and the Appendix is corrected to reference classification and label requirements provided in § 1910.1200. “material safety data sheet” and the acronym “MSDS” are corrected to “safety data sheet” and “SDS”.
On p. 17786 | § 1910.1200, Appendix E | Remove the entire Appendix E entitled, “Appendix E to § 1910.1200—(Advisory)—Guidelines for Employer Compliance”.
On p. 17787 | § 1910.1200, paragraphs (d)(4), (d)(5), and (d)(6) | Remove paragraphs (d)(4), (d)(5), and (d)(6).
On p. 17791 | § 1910.1200, Appendix A, Table A.1.1 Note (a) | Remove the word “Steward”.
On p. 17791 | § 1910.1200, Appendix A, Paragraph A.1.2, Table A.1.1 | Dermal Category 1 value of “≤5” is corrected to read “≤50”.
On p. 17797 | § 1910.1200, Appendix A, Paragraph A.2.4.3.1 | The concentration of “relevant ingredients” of a mixture is corrected from “>1%” to “≥1%”.
On p. 17801 | § 1910.1200, Appendix A, Paragraph A.3.4.3.1 | The concentration of “relevant ingredients” of a mixture is corrected from “>1%” to “≥1%”.
On p. 17818 | § 1910.1200, Appendix B, Paragraph B.3.2, Table B.3.1 | Reformat table to clarify application of hazard categories.
On p. 17886 | § 1910.1200, Appendix F, Part A | Correct the paragraph numbering in the first column. The second subsection under the heading Carcinogenicity in experimental animals is corrected to read “(b)”.
On p. 17887 | § 1910.1200, Appendix F, Part D | The NTP RoC column of the Table is corrected to indicate that the text “Reasonably Anticipated (See Note 1)” is intended to refer to both lines (IARC Group 2A and 2B, and GHS Category 1B and 2), and the subparagraphs in paragraph 3 of Note 1 are corrected to “a” and “b” rather than “c” and “d”.
On p. 17888 | § 1915.1001, Appendix K | “material safety data sheet” and the acronym “MSDS” are corrected to “safety data sheet” and “SDS”, respectively.
On p. 17890 | § 1926.64, Appendix C | “material safety data sheet” and the acronym “MSDS” are corrected to “safety data sheet” and “SDS”, respectively.
On p. 17890 | § 1926.65, Appendix E | “material safety data sheet” is corrected to “safety data sheet”.
On p. 17895 | § 1926.1101, paragraph (k)(8)(v) | Paragraphs (k)(8)(iv)(B) and (k)(8)(v) are repetitive; paragraph (k)(8)(v) is designated as “Reserved.”

II. Exemption From Notice-and-Comment Procedures

Section 4 of the Administrative Procedure Act, 5 U.S.C. 553(b)(3)(B), provides that, when an Agency for good cause finds that notice and public procedure are impracticable, unnecessary or contrary to the public interest, the Agency may issue a final rule without providing notice and an opportunity for public comment. This rulemaking only corrects errors of a minor, mainly typographical nature and therefore does not affect or change any existing rights or obligations. OSHA has determined that there is good cause, pursuant to 5 U.S.C. 553(b)(3)(B), Section 6(b) of the Occupational Safety and Health Act of 1970 (29 U.S.C. 655(b)), and 29 CFR 1911.5, for making this correctional amendment final without prior proposal and opportunity for comment because the rulemaking does not affect or change any existing rights or obligations, and no stakeholder is likely to object to them. For the same reasons, the Agency finds good cause under 5 U.S.C. 553(d)(3) to make the amendment effective upon publication.

III. Authority and Signature

David Michaels, Ph.D., MPH, Assistant Secretary for Occupational Safety and Health, U.S. Department of Labor, 200 Constitution Avenue NW., Washington, DC 20210, authorized the preparation of this document. It is issued under the authority of sections 4, 6, and 8 of the Occupational Safety and Health Act of 1970 (29 U.S.C. 653, 655, 657); 5 U.S.C. 553; Section 304, Clean Air Act Amendments of 1990 (Pub. L. 101-549, reprinted at 29 U.S.C.A. 655 Note); Section 41, Longshore and Harbor Workers' Compensation Act (33 U.S.C. 941); Section 107, Contract Work Hours and Safety Standards Act (40 U.S.C. 3704); Section 1031, Housing and Community Development Act of 1992 (42 U.S.C. 4853); Section 126, Superfund Amendments and Reauthorization Act of 1986, as amended (reprinted at 29 U.S.C.A. 655 Note); Secretary of Labor's Order No. 1-2012 (77 FR 3912); and 29 CFR Part 1911.

David Michaels,
Assistant Secretary of Labor for Occupational Safety and Health.

List of Subjects

29 CFR Part 1910

Asbestos, Chemicals, Fire prevention, Hazard communication, Hazardous substances, Occupational safety and health.

29 CFR Part 1915

Asbestos, Longshore and harbor workers, Occupational safety and health.

29 CFR Part 1926

Asbestos, Construction industry, Fire prevention, Hazardous substances, Occupational safety and health.

Accordingly, OSHA is amending 29 CFR parts 1910, 1915, and 1926 by making the following corrections and technical amendments:

PART 1910—OCCUPATIONAL SAFETY AND HEALTH STANDARDS

Subpart H—[Amended]

1. The authority citation for Part 1910 Subpart H continues to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2007 (72 FR 31159), 4-2010 (75 FR 55355) or 1-2012 (77 FR 3912), as applicable; and 29 CFR part 1911.

Sections 1910.103, 1910.106 through 1910.111, and 1910.119, 1910.120, and 1910.122 through 1910.126 also issued under 29 CFR part 1911.

Section 1910.119 also issued under Section 304, Clean Air Act Amendments of 1990 (Pub. L. 101-549), reprinted at 29 U.S.C.A. 655 Note.

Section 1910.120 also issued under Section 126, Superfund Amendments and Reauthorization Act of 1986 as amended (29 U.S.C.A. 655 Note), and 5 U.S.C. 553.

§ 1910.119 [Amended]

2. Amend § 1910.119 as follows:

a. Remove the words “Material Safety Data Sheets” and add in their place “safety data sheets” in the note following paragraph (d)(1).

b. In Appendix C to § 1910.119, remove “material safety data sheet (MSDS)” in the second paragraph in section 3 and add in its place “safety data sheet (SDS)” and remove “MSDS” in the first paragraph in section 6 and add in its place “SDSs”.

c. In Appendix C to § 1910.119, remove the words “material safety data sheets” and add in their place “safety data sheets” in the seventh paragraph in section 13.

§ 1910.120 [Amended]

3. Amend § 1910.120:

a. By removing the acronym “MSDS” and adding in its place “SDS” wherever it appears; and

b. In Appendix E to § 1910.120, by removing the words “material safety data sheets” and adding in their place “safety data sheets” wherever they appear.

Subpart Z—[Amended]

4. The authority citation for Part 1910 Subpart Z continues to read as follows:

Authority: Sections 4, 6, 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), or 1-2012 (77 FR 3912), as applicable; and 29 CFR part 1911.

All of subpart Z issued under section 6(b) of the Occupational Safety and Health Act of 1970, except those substances that have exposure limits listed in Tables Z-1, Z-2, and Z-3 of 29 CFR 1910.1000. The latter were issued under section 6(a) (29 U.S.C. 655(a)).

Section 1910.1000, Tables Z-1, Z-2 and Z-3 also issued under 5 U.S.C. 553, but not under 29 CFR part 1911 except for the arsenic (organic compounds), benzene, cotton dust, and chromium (VI) listings.

Section 1910.1001 also issued under section 107 of the Contract Work Hours and Safety Standards Act (40 U.S.C. 3704) and 5 U.S.C. 553.

Section 1910.1002 also issued under 5 U.S.C. 553, but not under 29 U.S.C. 655 or 29 CFR part 1911.

Sections 1910.1018, 1910.1029, and 1910.1200 also issued under 29 U.S.C. 653.

Section 1910.1030 also issued under Pub. L. 106-430, 114 Stat. 1901.

Section 1910.1201 also issued under 49 U.S.C. 1801-1819 and 5 U.S.C. 533.

§ 1910.1001 [Amended]

5. Amend § 1910.1001 as follows:

a. Remove the words “material safety data sheet” and add in their place “safety data sheet” wherever they appear in Appendix J;

b. Remove the acronym “MSDS” and add in its place “SDS” wherever it appears in Appendix J.

§ 1910.1044 [Amended]

6. Amend § 1910.1044 as follows:

a. Remove the phrase “Class IIIA combustible liquid” and add in its place “Category 4 flammable liquid” wherever it appears in Appendix B.

§ 1910.1048 [Amended]

7. Amend § 1910.1048 by removing the phrase “Flammability Class (OSHA): III A” and adding in its place “Flammability (OSHA): Category 4 flammable liquid” wherever it appears in Appendix A.

8. Amend § 1910.1051 by revising paragraph (l)(1)(ii) to read as follows:

§ 1910.1051 1,3-Butadiene.

* * * * *

(l) * * *

(1) * * *

(ii) In classifying the hazards of BD at least the following hazards are to be addressed: Cancer; eye and respiratory tract irritation; central nervous system effects; and flammability.

* * * * *

9. Amend § 1910.1052, in Appendix A, by revising paragraph E in section X to read as follows:

§ 1910.1052 Methylene Chloride.

* * * * *

Appendix A to § 1910.1052—Substance Safety Data Sheet and Technical Guidelines for Methylene Chloride

* * * * *

X. Access to Information

* * * * *

E. Your employer is required to provide labels and safety data sheets (SDSs) for all materials, mixtures or solutions composed of greater than 0.1 percent MC. These materials, mixtures or solutions would be classified and labeled in accordance with § 1910.1200.

* * * * *

10. Amend § 1910.1200 as follows:

a. Remove paragraphs (d)(4) through (6).

b. Remove the word “Steward” in Appendix A, Table A.1.1 Note (a).

c. Remove the value of “≤5” and add in its place “≤50” for Dermal Category 1 in Appendix A, paragraph A.1.2, Table A.1.1.

d. In Appendix A, revise paragraphs A.2.4.3.1 and A.3.4.3.1.

e. In Appendix B, in paragraph B.3.2, revise Table B.3.1.

f. Remove the second occurrence of Appendix E (entitled “(Advisory)—Guidelines for Employer Compliance”).

g. In Appendix F, in Part A, redesignate the second paragraph (a) under “carcinogenicity in experimental animals” as paragraph (b) and revise Part D.

The revisions read as follows:

§ 1910.1200 Hazard Communication.

* * * * *

Appendix A to § 1910.1200—Health Hazard Criteria (Mandatory)

* * * * *

A.1 ACUTE TOXICITY

* * * * *

Table A.1.1—Acute Toxicity Hazard Categories and Acute Toxicity Estimate (ATE) Values Defining the Respective Categories
Exposure route | Category 1 | Category 2 | Category 3 | Category 4
Oral (mg/kg bodyweight)
see: Note (a) | ≤ 5 | >5 and ≤ 50 | >50 and ≤ 300 | >300 and ≤ 2000.
Note (b)
Dermal (mg/kg bodyweight)
see: Note (a) | ≤ 50 | >50 and ≤ 200 | >200 and ≤ 1000 | >1000 and ≤ 2000.
Note (b)
Inhalation—Gases (ppmV)
see: Note (a) | ≤ 100 | >100 and ≤ 500 | >500 and ≤ 2500 | >2500 and ≤ 20000.
Note (b)
Note (c)
Inhalation—Vapors (mg/l)
see: Note (a) | ≤ 0.5 | >0.5 and ≤ 2.0 | >2.0 and ≤ 10.0 | >10.0 and ≤ 20.0.
Note (b)
Note (c)
Note (d)
Inhalation—Dusts and Mists (mg/l)
see: Note (a) | ≤ 0.05 | >0.05 and ≤ 0.5 | >0.5 and ≤ 1.0 | >1.0 and ≤ 5.0.
Note (b)
Note (c)

* * * * *

A.2 SKIN CORROSION/IRRITATION

* * * * *

A.2.4

* * *

A.2.4.3

* * *

A.2.4.3.1. For purposes of classifying the skin corrosion/irritation hazards of mixtures in the tiered approach:

The “relevant ingredients” of a mixture are those which are present in concentrations ≥1% (weight/weight for solids, liquids, dusts, mists and vapors and volume/volume for gases.) If the classifier has reason to suspect that an ingredient present at a concentration <1% will affect classification of the mixture for skin corrosion/irritation, that ingredient shall also be considered relevant.

* * * * *

A.3 SERIOUS EYE DAMAGE/EYE IRRITATION

* * * * *

A.3.4 * * *

A.3.4.3 * * *

A.3.4.3.1 For purposes of classifying the eye corrosion/irritation hazards of mixtures in the tiered approach:

The “relevant ingredients” of a mixture are those which are present in concentrations ≥1% (weight/weight for solids, liquids, dusts, mists and vapors and volume/volume for gases.) If the classifier has reason to suspect that an ingredient present at a concentration <1% will affect classification of the mixture for eye corrosion/irritation, that ingredient shall also be considered relevant.

* * * * *

Appendix B to § 1910.1200—Physical Hazard Criteria (Mandatory)

* * * * *

B.3 FLAMMABLE AEROSOLS

* * * * *

B.3.2 Classification Criteria

* * * * *

Table B.3.1—Criteria for Flammable Aerosols
Category | Criteria
1 | Contains ≥ 85% flammable components and the chemical heat of combustion is ≥ 30 kJ/g; or (a) For spray aerosols, in the ignition distance test, ignition occurs at a distance ≥ 75 cm (29.5 in), or (b) For foam aerosols, in the aerosol foam flammability test (i) The flame height is ≥ 20 cm (7.87 in) and the flame duration ≥ 2 s; or (ii) The flame height is ≥ 4 cm (1.57 in) and the flame duration ≥ 7 s
2 | Contains > 1% flammable components, or the heat of combustion is ≥ 20 kJ/g; and (a) for spray aerosols, in the ignition distance test, ignition occurs at a distance ≥ 15 cm (5.9 in), or in the enclosed space ignition test, the (i) Time equivalent is ≤ 300 s/m³; or (ii) Deflagration density is ≤ 300 g/m³ (b) For foam aerosols, in the aerosol foam flammability test, the flame height is ≥ 4 cm and the flame duration is ≥ 2 s and it does not meet the criteria for Category 1

* * * * *

Appendix F to § 1910.1200—Guidance for Hazard Classifications Re: Carcinogenicity (Non-Mandatory)

* * * * *

Part D: Table Relating Approximate Equivalences Among IARC, NTP RoC, and GHS Carcinogenicity Classifications

The following table may be used to perform hazard classifications for carcinogenicity under the HCS (§ 1910.1200). It relates the approximated GHS hazard categories for carcinogenicity to the classifications provided by IARC and NTP, as described in Parts B and C of this Appendix.

Approximate Equivalences Among Carcinogen Classification Schemes
IARC | GHS | NTP RoC
Group 1 | Category 1A | Known.
Group 2A | Category 1B | Reasonably Anticipated (See Note 1).
Group 2B | Category 2 | Reasonably Anticipated (See Note 1).

Note 1:

1. Limited evidence of carcinogenicity from studies in humans (corresponding to IARC 2A/GHS 1B);

2. Sufficient evidence of carcinogenicity from studies in experimental animals (again, essentially corresponding to IARC 2A/GHS 1B);

3. Less than sufficient evidence of carcinogenicity in humans or laboratory animals; however:

a. The agent, substance, or mixture belongs to a well-defined, structurally-related class of substances whose members are listed in a previous RoC as either “Known” or “Reasonably Anticipated” to be a human carcinogen, or

b. There is convincing relevant information that the agent acts through mechanisms indicating it would likely cause cancer in humans.

* * * * *

PART 1915—OCCUPATIONAL SAFETY AND HEALTH STANDARDS FOR SHIPYARD EMPLOYMENT

Subpart Z—[Amended]

11. The authority citation for Part 1915 continues to read as follows:

Authority: Section 41, Longshore and Harbor Workers' Compensation Act (33 U.S.C. 941); Sections. 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31160), 4-2010 (75 FR 55355), or 1-2012 (77 FR 3912), as applicable; and 29 CFR Part 1911.

Section 1915.100 also issued under 49 U.S.C. 1801-1819 and 5 U.S.C. 553.

Sections 1915.120 and 1915.152 of 29 CFR also issued under 29 CFR part 1911.

§ 1915.1001 [Amended]

12. Amend § 1915.1001 by removing the words “Material Safety Data Sheet” and adding in their place “safety data sheet” and removing the acronym “MSDS” and adding in its place “SDS” in Appendix K, section 3.1.(e).

PART 1926—OCCUPATIONAL SAFETY AND HEALTH STANDARDS FOR CONSTRUCTION

Subpart D—[Amended]

13. The authority citation for Part 1926 Subpart D continues to read as follows:

Authority: Section 107 of the Contract Work Hours and Safety Standards Act (40 U.S.C. 3704); Sections 4, 6, and 8 of the Occupational Safety and Health Act of 1970 (29 U.S.C. 653, 655, and 657); and Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), or 1-2012 (77 FR 3912) as applicable; and 29 CFR part 1911.

Sections 1926.58, 1926.59, 1926.60, and 1926.65 also issued under 5 U.S.C. 553 and 29 CFR part 1911.

Section 1926.61 also issued under 49 U.S.C. 1801-1819 and 6 U.S.C. 553.

Section 1926.62 also issued under section 1031 of the Housing and Community Development Act of 1992 (42 U.S.C. 4853).

Section 1926.65 also issued under section 126 of the Superfund Amendments and Reauthorization Act of 1986, as amended (reprinted at 29 U.S.C.A. 655 Note), and 5 U.S.C. 553.

§ 1926.64 [Amended]

14. Amend § 1926.64 as follows:

a. Remove the words “material safety data sheet” and add in their place “safety data sheet” wherever they appear in Appendix C;

b. Remove the words “material safety data sheets” and add in their place “safety data sheets” wherever they appear in Appendix C;

c. Remove the acronym “MSDS” and add in its place “SDS” wherever it appears in Appendix C.

§ 1926.65 [Amended]

15. Amend § 1926.65 by removing the words “material safety data sheets” and adding in their place “safety data sheets” wherever they appear in Appendix E.

Subpart Z—[Amended]

16. The authority citation for Part 1926 Subpart Z continues to read as follows:

Authority: Section 107 of the Contract Work Hours and Safety Standards Act (40 U.S.C. 3704); Sections 4, 6, and 8 of the Occupational Safety and Health Act of 1970 (29 U.S.C. 653, 655, 657); and Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), or 1-2012 (77 FR 3912) as applicable; and 29 CFR part 1911.

Section 1926.1102 not issued under 29 U.S.C. 655 or 29 CFR part 1911; also issued under 5 U.S.C. 553.

§ 1926.1101 [Amended]

17. Amend § 1926.1101 remove and reserve paragraph (k)(8)(v).

[FR Doc. 2013-01416 Filed 2-7-13; 8:45 am]

BILLING CODE 4510-26-P